DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning the information collection outlined in 44 CFR part 61, as it pertains to application for National Flood Insurance Program insurance.

SUPPLEMENTARY INFORMATION: The National Flood Insurance Program (NFIP) is authorized by Public Law 90-448 (1968) and expanded by Public Law 93-234 (1973). The National Flood Insurance Act of 1968 requires that FEMA provides flood insurance at full actuarial rates reflecting the complete flood risk to structures built or substantially improved on or after the effective date for the initial Flood Insurance Rate Map (FIRM) for the community, or after December 31, 1974, whichever is later, so that the risks associated with buildings in flood-prone areas are borne by those located in such areas and not by the taxpayers at large. In accordance with Public Law 93-234, the purchase of flood insurance is mandatory when Federal or federally related financial assistance is being provided for acquisition or construction of buildings located, or to be located, within FEMA-identified special flood hazard areas of communities that are participating in the NFIP. When flood damage occurs to insured property, information is collected to report, investigate, negotiate and settle the claim.

Collection of Information

Title: National Flood Insurance Program Claims Forms.

Type of Information Collection: Revision of a currently approved collection.

OMB Number: 1660-0005.

Form Numbers: 81-40 (Worksheet-Contents-Personal Property), 81-41 (Worksheet-Building), 81-41A (Worksheet-Building Continued), 81-42 (Proof of Loss), 81-42A (Increased Cost of Compliance Proof of Loss), 81-43 (Notice of Loss), 81-44 (Statement as to Full Cost to Repair or Replacement Cost Coverage, Subject to the Terms and Conditions of this Policy), 81-57 (National Flood Insurance Program Preliminary Report), 81-58 (National Flood Insurance Program Final Report), 81-59 (National Flood Insurance Program Narrative Report), 81-63 (Cause of Loss and Subrogation Report), 81-96 (Mobile Home Worksheet), 81-96A (Mobile Home Worksheet Continued), 81-98 (Increased Cost of Compliance (ICC) Adjuster Report), 81-109 (Adjuster Preliminary Damage Assessment), 81-110 (Adjuster Certification Application).

Abstract: The claims forms used for the NFIP are used by policyholders and adjusters to collect the information needed to investigate, document, evaluate, and settle claims against NFIP policies for flood damage to their insured property or qualification for benefits under Increased Cost of Compliance coverage.

Affected Public: Individuals or households; business or other for-profit; not-for-profit institutions; farms; Federal government; State, local or tribal government.

Estimated Total Annual Burden Hours: 29,448.

Annual Burden Hours
Project/activity (survey, form(s), focus group, worksheet, etc.) | Number of respondents* | Frequency of responses | Burden hours per respondent | Annual responses | Total annual burden hours
| (A) | (B) | (C) | (A×B) | (A×B×C)
FEMA Form:
81-40 | 3,150 | 1 | 2.50 | 3,150 | 7,875
81-41 | 4,950 | 1 | 2.50 | 4,950 | 12,375
81-41A | 5,250 | 1 | 1.00 | 5,250 | 5,250
81-42 | 5,250 | 1 | 0.08 | 5,250 | 420
81-42A | 375 | 1 | 2.00 | 375 | 750
81-43 | 5,250 | 1 | 0.07 | 5,250 | 368
81-44 | 1,500 | 1 | 0.10 | 1,500 | 150
81-57 | 5,250 | 1 | 0.07 | 5,250 | 368
81-58 | 5,250 | 1 | 0.07 | 5,250 | 368
81-59 | 3,000 | 1 | 0.08 | 3,000 | 240
81-63 | 525 | 1 | 1.00 | 525 | 525
81-96 | 300 | 1 | 0.50 | 300 | 150
81-96A | 300 | 1 | 0.25 | 300 | 75
81-98 | 375 | 1 | 0.42 | 375 | 158
81-109 | 750 | 1 | 0.25 | 750 | 188
81-110 | 750 | 1 | 0.25 | 750 | 188
Total | 42,225 |  |  | 42,225 | 29,448
* There is an estimated 7,500 respondents, however not all will file all forms. The estimated number of policyholders who will file insurance claims due to flood damage is based upon claims' historical trends. The public reporting burden for the collection of information is estimated to average four hours per claim. This estimate includes the time, effort, or financial resources expended by persons to generate, maintain, retain, disclose, or provide information.

Estimated Costs: $654,040.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 19, 2007.

ADDRESSES: Interested persons should submit written comments to Chief, Records Management and Privacy Section, Information Resources Management Branch, Information Technology Services Division, Federal Emergency Management Agency, 500 C Street, SW., Room 609, Washington, DC 20472.

FOR FURTHER INFORMATION CONTACT: Contact Karen Christian, Insurance Examiner, Mitigation Division, Risk Insurance Branch at (202) 646-2693, Karen.Christian@dhs.gov, or Carolyn McGill, Insurance Examiner, Mitigation Division, Risk Insurance Branch at (202) 646-3969, Carolyn.McGill@dhs.gov, for additional information. You may contact the Records Management and Privacy Branch for copies of the proposed collection of information at facsimile number (202) 646-3347 or e-mail address: FEMA-Information-Collections@dhs.gov.

Dated: April 10, 2007.
John A. Sharetts-Sullivan,
Chief, Records Management and Privacy Section, Information Resources Management Branch, Information Technology Services Division, Federal Emergency Management Agency.

[FR Doc. E7-7585 Filed 4-19-07; 8:45 am]

BILLING CODE 9110-12-P